DEPARTMENT OF AGRICULTURE

Forest Service

Pike & San Isabel Resource Advisory Committee

AGENCY: Forest Service, USDA.

ACTION: Notice of meetings.

SUMMARY: The Pike & San Isabel Resource Advisory Committee will meet in Pueblo, Colorado. The committee is meeting as authorized under the Secure Rural Schools and Community Self-Determination Act (Pub. L. 110-343) and in compliance with the Federal Advisory Committee Act. The purpose of the meeting is for project discussion and recommendation to the Designated Federal Official.

DATES: The meetings will be held on September 5 and September 27, and will begin at 10:00 a.m.

ADDRESSES: The meetings will be held at the Supervisor's Office of the Pike & San Isabel National Forests, Cimarron and Comanche National Grasslands (PSICC) at 2840 Kachina Dr., Pueblo, Colorado. Written comments should be sent to Barbara Timock, PSICC, 2840 Kachina Dr., Pueblo, CO 81008. Comments may also be sent via email to btimock@fs.fed.us, or via facsimile to 719-553-1416.

All comments, including names and addresses when provided, are placed in the record and are available for public inspection and copying. The public may inspect comments received at PSICC, 2840 Kachina Dr., Pueblo, CO 81008. Visitors are encouraged to call ahead to 719-553-1415 to facilitate entry into the building.

FOR FURTHER INFORMATION CONTACT: Barbara Timock, RAC coordinator, USDA, Pike & San Isabel National Forests, 2840 Kachina Dr., Pueblo, CO 81008; (719) 553-1415; Email btimock@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: To recommend project proposals, the PSI-RAC will convene a meeting. Decisions will be made during this meeting and the RAC will report out at the next meeting. The September 5 and September 27 meetings are open to the public. The following business will be conducted: (1) Review project proposals, (2) Vote on and recommend projects to the Designated Federal Official, (3) Public Comment. Persons who wish to bring related matters to the attention of the Committee may file written statements with the Committee staff before or after the meeting. Public input sessions will be provided and individuals who made written requests by September 4, 2012 will have the opportunity to address the Committee at those sessions.

Dated: August 15, 2012.
John F. Peterson,
Designated Federal Official.

[FR Doc. 2012-20472 Filed 8-20-12; 8:45 am]

BILLING CODE 3410-11-P